DEPARTMENT OF AGRICULTURE

Grain Inspection, Packers and Stockyards Administration

[05-03-S]

Designation for Jamestown (ND), Lincoln (NE), Memphis (TN), Omaha (NE), and Sioux City (IA) Areas

AGENCY: Grain Inspection, Packers and Stockyards Administration, USDA.

ACTION: Notice.

SUMMARY: Grain Inspection, Packers and Stockyards Administration (GIPSA) announces designation of the following organizations to provide official services under the United States Grain Standards Act, as amended (Act): Grain Inspection, Inc. (Jamestown); Lincoln Inspection Service, Inc. (Lincoln); Midsouth Grain Inspection Service (Midsouth); Omaha Grain Inspection Service, Inc. (Omaha); and Sioux City Inspection and Weighing Service Company (Sioux City).

DATES: Effective Date: April 1, 2006.

ADDRESSES: USDA, GIPSA, Janet M. Hart, Deputy Director, Compliance Division, STOP 3604, Room 1647-S, 1400 Independence Avenue, SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the September 1, 2005 Federal Register (70 FR 52070), GIPSA asked persons interested in providing official services in the geographic areas assigned to the official agencies named above to submit an application for designation. Applications were due by October 3, 2005.

Jamestown, Lincoln, Midsouth, Omaha, and Sioux City were the sole applicants for designation to provide official services in the entire area currently assigned to them, so GIPSA did not ask for additional comments on them.

GIPSA evaluated all available information regarding the designation criteria in Section 7(f)(l)(A) of the Act and, according to Section 7(f)(l)(B), determined that Jamestown, Lincoln, Midsouth, Omaha, and Sioux City are able to provide official services in the geographic areas specified in the September 1, 2005, Federal Register, for which they applied. These designation actions to provide official services are effective April 1, 2006, and terminate March 31, 2009, for Jamestown, Lincoln, and Sioux City. Midsouth and Omaha are designated for 12 months only, effective April 1, 2006, and terminating March 31, 2007. Interested persons may obtain official services by calling the telephone numbers listed below.

Official agency | Headquarters location and telephone | Designation term
Jamestown | Jamestown, ND; 701-252-1290 | 04/01/06-03/31/09
Lincoln | Lincoln, NE; 402-435-4386 | 04/01/06-03/31/09
Midsouth | Memphis, TN; 901-942-3216; Additional location: Stoneville, MS, North Little Rock, AR | 04/01/06-03/31/07
Omaha | Omaha, NE; 402-341-6739 | 04/01/06-03/31/07
Sioux City | Sioux City, IA; 712-255-8073 | 04/01/06-03/31/09

Authority: Pub. L. 94-582, 90 Stat. 2867, as amended (7 U.S.C. 71 et seq.).

James E. Link,
Administrator, Grain Inspection, Packers and Stockyards Administration.

[FR Doc. 06-1935 Filed 2-28-06; 8:45 am]

BILLING CODE 3410-EN-P